SECURITIES AND EXCHANGE COMMISSION

Issuer Delisting; Notice of Application of Arch Coal, Inc. To Withdraw Its 5% Perpetual Cumulative Convertible Preferred Stock (liquidation preference $50 Per Share), From Listing and Registration on the New York Stock Exchange, Inc. File No. 1-13105

February 14, 2006.

On February 6, 2006, Arch Coal, Inc., a Delaware corporation (“Issuer”), filed an application with the Securities and Exchange Commission (“Commission”), pursuant to Section 12(d) of the Securities Exchange Act of 1934 (“Act”) ¹ and Rule 12d2-2(d) thereunder,² to withdraw its 5% perpetual cumulative convertible preferred stock (liquidation preference $50 per share) (“Security”), from listing and registration on the New York Stock Exchange, Inc. (“NYSE”).

¹ 15 U.S.C. 78l(d).

² 17 CFR 240.12d2-2(d).

On January 6, 2006, the Board of Directors (“Board”) of the Issuer approved resolutions to withdraw the Security from listing and registration on NYSE. The Issuer previously commenced a conversion offer (“Offer”) to pay a premium to holders of any and all of the Security who elected to convert to shares of the Issuer's common stock, par value $.01 per share, subject to the terms of the Offer. On December 31, 2005, the Issuer accepted for conversion all shares of the Security validly tendered and not withdrawn as of the expiration date of the Offer. Upon expiration of the Offer, 150,508 shares of the Security remained outstanding. Based on information provided to the Issuer from its transfer agent, the Securities that remain outstanding are held by approximately 35 holders. The Board decided that it was in the best interest of the Issuer and its stockholders to delist and deregister the Security on NYSE due to the limited market for the Security.

The Issuer stated that it has complied with the requirements of NYSE's rules governing an issuer's voluntary withdrawal of a security from listing and registration by complying with all applicable rules in the State of Delaware, in which the Issuer is incorporated, and by providing NYSE with the required documents governing the removal of securities from listing and registration on NYSE.

The Issuer's application relates solely to the withdrawal of the Security from listing on NYSE and from registration under Section 12(b) of the Act,³ and shall not affect its obligation to be registered under Section 12(g) of the Act.⁴

³ 15 U.S.C. 78l(b).

⁴ 15 U.S.C. 78l(g).

Any interested person may, on or before March 13, 2006, comment on the facts bearing upon whether the application has been made in accordance with the rules of NYSE, and what terms, if any, should be imposed by the Commission for the protection of investors. All comment letters may be submitted by either of the following methods:

Electronic Comments

• Use the Commission's Internet comment form (http://www.sec.gov/rules/delist.shtml); or

• Send an e-mail to rule-comments@sec.gov. Please include the File Number 1-13105 or;

Paper Comments

• Send paper comments in triplicate to Nancy M. Morris, Secretary, Securities and Exchange Commission, 100 F Street, NE., Washington, DC 20549-1090.

All submissions should refer to File Number 1-13105. This file number should be included on the subject line if e-mail is used. To help us process and review your comments more efficiently, please use only one method. The Commission will post all comments on the Commission's Internet Web site (http://www.sec.gov/rules/delist.shtml). Comments are also available for public inspection and copying in the Commission's Public Reference Room. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁵
⁵ 17 CFR 200.30-3(a)(1).
Nancy M. Morris,
Secretary.

[FR Doc. E6-2435 Filed 2-21-06; 8:45 am]

BILLING CODE 8010-01-P